DEPARTMENT OF LABOR

Occupational Safety and Health Administration

Advisory Committee on Construction Safety and Health; Notice of Open Meeting

AGENCY: Occupational Safety and Health Administration (OSHA), Labor.

ACTION: Notice of a meeting of the Advisory Committee on Construction Safety and Health (ACCSH).

SUMMARY: OSHA is notifying the public that ACCSH will meet September 14-15, 2000 at the Holiday Inn Capital at the Smithsonian, 550 C Street SW., Washington, DC. This meeting is open to the public.

Dates, Times and Rooms

ACCSH will meet 8:30 a.m. to 5 p.m. Thursday, September 14 and 8:30 a.m. to Noon Friday, September 15 in the Discovery II conference room. ACCSH work groups will meet September 11-12 in the Frances Perkins Building, U.S. Department of Labor, 200 Constitution Avenue, NW., Washington, DC.

FOR FURTHER INFORMATION CONTACT: Veneta Chatmon, Office of Public Affairs, Room N-3647, Frances Perkins Building, 200 Constitution Avenue, NW., Washington, DC 20210, telephone (202) 693-1999.

SUPPLEMENTARY INFORMATION: An official record of the meeting will be available for public inspection at the OSHA Docket Office, Room N-2625 of the Frances Perkins Building, at the address above, telephone (202) 693-2350. All ACCSH meetings and those of its work groups are open to the public. Individuals needing special accommodation should contact Veneta Chatmon no later than August 30, 2000, at the above address.

The agenda items for this meeting include:

• Remarks by the Assistant Secretary for the Occupational Safety and Health Administration, Charles N. Jeffress.

• ACCSH work group updates, including:

• Data Collection.

• Musculoskeletal Disorders.

• Fall Protection.

• Hexavalent Chromium.

• Safety and Health Programs and Training.

• OSHA Form 170.

• Directorate of Construction Reports.

• Special Presentations, including:

• Ergonomic Interventions for Domestic Maritime Industries.

• Communication Tower Erection.

• Comments on the ACCSH draft document on Preventing Musculoskeletal Disorders.

The following ACCSH work groups will meet in the Frances Perkins Building, at the address above:

Hexavalent Chromium: 10 a.m. to Noon, Tuesday, September 12, room N-3437 B.

Safety and Health Programs and Training: 1-3 p.m., Tuesday, September 12, room N-3437 B.

OSHA Form 170: 1-4 p.m., Tuesday, September 12, room N-3437 A.

Data Collection: 8:30 a.m. to Noon, Wednesday, September 13, room N-3437 D.

Musculoskeletal Disorders: 1:30-4:30 p.m., Wednesday, September 13, room N-3437 D.

For up-to-date information on ACCSH activities and scheduling please refer to the OSHA Web site at http://www.osha.gov, or call Jim Boom in OSHA's Directorate of Construction at (202) 693-1839.

Interested parties may submit written data, views or comments, preferably with 20 copies, to Veneta Chatmon, at the address above. Submissions received prior to the meeting will be provided to ACCSH members and will be included in the record of the meeting. Attendees may also request to make an oral presentation by notifying Veneta Chatmon in writing before the meeting. The request must state the amount of time desired, the interest represented by the presenter (e.g., the names of the business, trade association, government agency) if any, and a brief outline of the presentation. The Chair of ACCSH may grant request at his/her discretion and as time permits.

Authority: Charles N. Jeffress, Assistant Secretary of Labor for Occupational Safety and Health, directed the preparation of this notice under the authority granted by section 7 of the Occupational Safety and Health Act of 1970 (29 U.S.C. 656) section 107 of the Contract Work Hours and Safety Standards Act (Construction Safety Act) (40 U.S.C. 333), and Secretary of Labor's Order No. 6-96 (62 FR 181).

Signed at Washington, DC, on August 8, 2000.
Charles N. Jeffress,
Assistant Secretary of Labor.

[FR Doc. 00-20674 Filed 8-14-00; 8:45 am]

BILLING CODE 4510-26-P